DEPARTMENT OF THE TREASURY

Submission for OMB Review; Comment Request

ACTION: Notice; correction.

SUMMARY: The Department of the Treasury published a document in the Federal Register on November 23, 2010, inviting comments on collections of information submitted to the Office of Management and Budget (OMB) for review. This document contained an incorrect reference.

Correction

In the Federal Register of November 23, 2010, in FR Doc. 2010-29493, make the following correction:

• Page 71489, in the first column, under OMB Number: 1545-0172, Estimated Total Burden Hours: replace “1,671,337,275” with “448,368,447”.

Dated: December 13, 2010.
Dawn D. Wolfgang,
Treasury PRA Clearance Officer.

[FR Doc. 2010-31858 Filed 12-17-10; 8:45 am]

BILLING CODE 4830-01-P